DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending September 30, 2001.

Last | First | Middle
Di Frangia | Mark | Vincent
Joiner | Derald | Eugene
March | Duane | Abe
Ling | Charlene |
Pillai | Nirmala | Venugopal
Bonney | Charles | Compton
Lorentzen | Peer |
Rapoport | Jonathan | Dale
Grossmann | Evalie | Janette
Pierre | Sy | Coolidge
Wadsworth | George |
Holmin | Robert | Eric Ross
Schilling | Angela | Melanie
Eichinger | Maria |
Eichinger | Mary | Cordula
Ney II | Paul | Edward
Sreedharan | Sapna | Erat
Casas | Juan | Antonio
Karren | John | Daniel
Capizzi | Patricia | Louise
Bernhardt | Pauline | Elilzabeth
Crawford | Mark | Edward
Byung | Suk | Ahn
Chang | Howard | S
Kuo | Ching-Chiang |
Kuo | Mei | Shein
Bazzett | Ronald | Robert
Julienne |  |
Senapatiratne | Theodore | Samuel
Lii | Yu-Hwei | Eunice
Neumann | Jennifer | Nicole
McLaughlin | Frank |
Armenio | Peter |
Davis | Gregory | Robert
Barbara | Hansen | Ulrike
Wenigwieser | Karen | Ingrid
Keller | Bettina | Elizabeth
Bussoz | Catherine | Simone
Mueller-Zivy | Nancy | Theresa
Keller | Richard | Robert
Balmer-Fischer | Sabina | Ann
Daverio | Stephen | Alfons
Nelson | Peter | George
Noone | David | Lee
Hufnagl | Caroline | Marie
Fleischman | Stewart | Jay
Dureau | Rachelle | Sian
Bischofberger | Willy | Franz
Chanderli | Selim | Reda
Endress | George | Alexander
Blocher | Michael | Charles
Mantel | Margrit | Elisabeth
Dimitriyevich-Dimitri | Peter | A
Perasso | Rolando |
Bisconti | Nicolo |
Appendino | John | Robert
Bickel | Tiffany | Jean
Mantel | Winfried |
Gooding | Arvenia | Ketrruah
Skipwith | Thomas | Grey
Burckhardt | Stephan | Andreas
Laurimore | Jill | Frances
Teitler | Eva | Maria
Lank | Elizabeth | Antoinette
Wells | Florence | Heyde
Goodman | Joel | Jay
Taghavi | Shohreh |
Caldwell | Robert |
Sakai | Kosuke |
Chang | Donald | Choy
Min | Wu | Shuh
Ryan | Janis | Blazy
Patton | Derek | Worley
Bolger | Chie | Saito
Kunimura | Tei |
Kakisu | Kengo |
Cano | Michael | Steven
Fischer | Michael | Christoph
Meile | Judith |
Luder | Peter |
Kuenzle | Donna | Mac Quarrie
Vorbrugg | Suzanne | Alice
Schoenbeck | Christoph | Richard
Schaechtle | Hilde | Mary
Dole | Robert |
Uhrich | Ervin | Edward
Hunt | John | Ft
Banks | James | Frank
Allard | Emogan |
Wavre | Patrick | Andre
Sarnefors | Michael | Sven Peter
Pierce | Karla | Gertrud Charlotte
Dimitriyevich-Dimitri | Peter | A
Bestle | Anna | Lynn
Morelle | Phillip | David
Charles | Blake | Sven
Palffy | Eugenia | Ines
Sudeck | Philip | Oliver
Wayman | Barbara | Margot Johanna
Rolfes | Tina | Maria
Robisch | Joseph | Anthony
Chan | Yuen | Foon
Kolb | David | Douglas
Pentony | Hae | Sook
Scott | Joanna | Youn
Wolf | Robert | Edward
Aiken | Barbara | Bartlett
Edney | Jonathan | Paul
Edney | Margaret | Gillian
Varianini | Vittoria |
Ulack Chiarizia | Anita |
Elkann | John | Philip Jacob Maria
Croset | Gaston | Octave
March | Juan | J
Hayers | Erika |
Eichinger | Monika (Sister Mary Cordula) |
Schuster | Martin |
Pluczenik | Arie |
Kattan | Hamad | Fuad
Ruthkosky | Joseph | Henry
Goek | Denise |
Klein | Arturo |
Shao | Alice | Chien Yu

Dated: February 20, 2002.
Samuel Brown,
Compliance, Correspondence Exam Operations, Unit O, Philadelphia Compliance Services.

[FR Doc. 02-6085 Filed 3-12-02; 8:45 am]

BILLING CODE 4830-01-P